DEPARTMENT OF DEFENSE

Office of the Secretary

Reserve Forces Policy Board; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Reserve Forces Policy Board (RFPB) will take place.

DATES: The RFPB will hold a meeting on Wednesday, March 4, 2020 from 7:40 a.m. to 3:00 p.m. The portion of the meeting from 7:40 a.m. to 1:00 p.m. will be closed to the public. The portion of the meeting from 1:10 p.m. to 3:00 p.m. will be open to the public.

ADDRESSES: The RFPB meeting address is the Pentagon, Room 3E863, Arlington, VA.

FOR FURTHER INFORMATION CONTACT: Alexander Sabol, (703) 681-0577 (Voice), 703-681-0002 (Facsimile), alexander.j.sabol.civ@mail.mil (Email). Mailing address is Reserve Forces Policy Board, 5113 Leesburg Pike, Suite 601, Falls Church, VA 22041. Website: http://rfpb.defense.gov/. The most up-to-date changes to the meeting agenda can be found on the website and the Federal Register.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: The purpose of the meeting is to obtain, review, and evaluate information related to strategies, policies, and practices designed to improve and enhance the capabilities, efficiency, and effectiveness of the Reserve Components.

Agenda: The RFPB will hold a meeting from 7:40 a.m. to 3:00 p.m. The portion of the meeting from 7:40 a.m. to 1:00 p.m. will be closed to the public and will consist of remarks to the RFPB from the following invited speakers: The Commander, United States Army Forces Command will discuss the Army's challenges facing our Nation and priorities for adapting the Army's force structure to include the Army Reserve Component's mission requirements; the Commander, United States Army North will discuss the readiness and use of the Army National Guard and Reserve within the Army North Command with increased emphasis on the homeland security missions for the Reserve Component; the Official Performing the Duties of the Under Secretary of Defense for Personnel and Readiness will discuss the goals of the Office of the Under Secretary of Defense for Personnel and Readiness; the Deputy Director, Army National Guard will discuss the National Guard's requirements to operate with the Border Patrol and the effects that the border security mission has on their military readiness; goals and updates on Reserve Components' personnel system reforms under consideration; the Commander, Air Mobility Command and the Commander, Air Combat Command will discuss the Air Mobility Command/Air Combat Command's goals, readiness objectives, and challenges for the “Operational Reserve” as part of the Total Force with the Active and Reserve Component mission effectiveness.

The portion of the meeting from 1:10 p.m. to 3:00 p.m. will be open to the public and will consist of briefings from the following: The Subcommittee on Enhancing DoD's Role in The Homeland will discuss the establishment of the Space Force Department with the DoD's legislative requirements, and the integration of Reserve Components into the Space Force; the Subcommittee on Supporting and Sustaining Reserve Component Personnel will present to the RFPB the subcommittee's review and make suggestions for future proposed recommendations to the Secretary of Defense concerning the Joint Credit proposal and the Services' MILTECH policy proposal; and the Subcommittee on Ensuring a Ready, Capable, Available, and Sustainable Operational Reserve will provide the subcommittee's review of and make suggestions for the Department's New Administration Transition Book for a future proposed RFPB recommendation to the Secretary of Defense.

Meeting Accessibility: Pursuant to section 10(a)(1) of the FACA and 41 CFR 102-3.140 through 102-3.165, and subject to the availability of space, the meeting is open to the public from 1:10 p.m. to 3:00 p.m. Seating is on a first-come, first-served basis. All members of the public who wish to attend the public meeting must contact Mr. Alex Sabol, the Designated Federal Officer, not later than 12:00 p.m. on Tuesday, March 3, 2020, as listed in the FOR FURTHER INFORMATION CONTACT section to make arrangements for a Pentagon escort, if necessary. Public attendees requiring escort should arrive at the Pentagon Metro Entrance at 12:30 p.m. to provide sufficient time to complete security screening to attend the beginning of the Open Meeting at 1:10 p.m. on March 4. To complete the security screening, please be prepared to present two forms of identification. One must be a picture identification card. In accordance with section 10(d) of the FACA, 5 U.S.C. 552b(c), and 41 CFR 102-3.155, the DoD has determined that the portion of this meeting scheduled to occur from 7:40 a.m. to 1:00 p.m. will be closed to the public. Specifically, the Performing the Duties of the Under Secretary of Defense for Personnel and Readiness, in coordination with the Department of Defense FACA Attorney, has determined in writing that this portion of the meeting will be closed to the public because it is likely to disclose classified matters covered by 5 U.S.C. 552b(c)(1).

Written Statements: Pursuant to section 10(a)(3) of the FACA and 41 CFR 102-3.105(j) and 102-3.140, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates in accordance with the provisions of the FACA, all submitted comments and public presentations will be treated as public documents and will be made available for public inspection, including, but not limited to, being posted on the RFPB's website.

Dated: February 10, 2020.
Aaron T. Siegel,
Alternate OSD Federal Register Liaison Officer, Department of Defense.

[FR Doc. 2020-02969 Filed 2-13-20; 8:45 am]

BILLING CODE 5001-06-P